DEPARTMENT OF COMMERCE

Foreign-Trade Zones Board

[Docket 2-2004]

Foreign-Trade Zone 36—Galveston, TX; Application for Expansion

An application has been submitted to the Foreign-Trade Zones Board (the Board) by the Board of Trustees of the Galveston Wharves, grantee of Foreign-Trade Zone 36, requesting authority to expand its zone in the Galveston, Texas, area, within the Galveston Customs port of entry. The application was submitted pursuant to the provisions of the Foreign-Trade Zones Act, as amended (19 U.S.C. 81a-81u), and the regulations of the Board (15 CFR part 400). It was formally filed on January 23, 2004.

FTZ 36 was approved on March 8, 1978 (Board Order 129, 43 FR 20525, 5/12/78). The reissuance of the grant of authority to the Board of Trustees of the Galveston Wharves was approved on February 22, 2000 (Board Order 1080, 65 FR 11548, 3/3/00). The zone currently consists of 2 sites in the Galveston area: Site 1 (8 acres, 3 tracts)—within Galveston Harbor, west end of port complex on Galveston Island; Site 2 (876 acres, 6 tracts)—within Galveston Harbor on Pelican Island.

The applicant is now requesting authority to remove one tract (tract 3, 1.14 acres) from Site 1 and to add 96 acres (1 tract) to Site 2. The applicant also requests to include an additional site (74 acres, 2 tracts), located at Scholes International Airport, approximately 4 miles from Site 1 at Galveston Island. The majority of the sites are owned by the City of Galveston. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is April 5, 2004. Rebuttal comments in response to material submitted during the foregoing period may be submitted during the subsequent 15-day period (to April 19, 2004).

A copy of the application and accompanying exhibits will be available during this time for public inspection at the Office of the Foreign-Trade Zones Board's Executive Secretary at address Number 1 listed above, and Port of Galveston, 123 Rosenberg Avenue, 8th Floor, Galveston, Texas 77550.

Dated: January 26, 2004.
Dennis Puccinelli,
Executive Secretary.

[FR Doc. 04-2276 Filed 2-3-04; 8:45 am]

BILLING CODE 3510-DS-P